DEPARTMENT OF LABOR

Employment and Training Administration

[TA-W-74,185]

LF USA, Inc., a Subsidiary of Li & Fung Limited, Including Workers Whose Unemployment Insurance (UI) Wages Are Reported Through Wear Me Apparel LLC, Including On-Site Leased Workers From Winston Staffing, Laurinburg, NC; Amended Certification Regarding Eligibility To Apply for Worker Adjustment Assistance

In accordance with Section 223 of the Trade Act of 1974, as amended (“Act”), 19 U.S.C. 2273, the Department of Labor issued a Certification of Eligibility to Apply for Worker Adjustment Assistance on August 27, 2010, applicable to workers of LF USA, Inc., a subsidiary of Li & Fung Limited, including on-site leased workers from Winston Staffing, New York, New York. The notice was published in the Federal Register on September 15, 2010 (75 FR 56143). Workers are engaged in employment related to the supply of wholesale, clothing design, business administration, and information technology support services.

At the request of the State Agency, the Department reviewed the certification for workers of the subject firm.

New information shows that some workers separated from employment at the subject firm had their wages reported under a separate unemployment insurance (UI) tax account under the name Wear Me Apparel LLC.

Accordingly, the Department is amending this certification to properly reflect this matter.

The intent of the Department's certification is to include all workers of the subject firm who were adversely affected by a shift in services to Hong Kong.

The amended notice applicable to TA-W-74,185 is hereby issued as follows:

All workers of LF USA, Inc., a subsidiary of Li & Fung Limited, including workers whose unemployment insurance (UI) wages are reported through Wear Me Apparel LLC, including on-site leased workers from Winston Staffing, New York, New York, who became totally or partially separated from employment on or after May 21, 2009, through August 27, 2012, and all workers in the group threatened with total or partial separation from employment on date of certification through two years from the date of certification, are eligible to apply for adjustment assistance under Chapter 2 of Title II of the Trade Act of 1974, as amended.

Signed in Washington, DC, this 18th day of November 2010.
Del Min Amy Chen,
Certifying Officer, Office of Trade Adjustment Assistance.

[FR Doc. 2010-30548 Filed 12-6-10; 8:45 am]

BILLING CODE 4510-FN-P